DEPARTMENT OF COMMERCE

National Oceanic and Atmospheric Administration

[I.D. 041800A]

Notice of Availability of Draft Stock Assessment Reports

AGENCY: National Marine Fisheries Service (NMFS), National Oceanic and Atmospheric Administration (NOAA), Commerce.

ACTION: Notice of availability; request for comments.

SUMMARY: NMFS has revised the Alaska, Atlantic and Gulf of Mexico, and Pacific marine mammal stock assessment reports in accordance with the Marine Mammal Protection Act (MMPA). Draft revised 2000 reports are available for public review and comment.

DATES: Comments must be received by August 16, 2000.

ADDRESSES: Send requests for printed copies of the draft Reports to: Chief, Marine Mammal Division, Office of Protected Resources, National Marine Fisheries Service, 1315 East-West Highway, Silver Spring, MD 20910-3226, Attn: Stock Assessments. Copies of the regional reports may also be requested from Anita Lopez, Alaska Fisheries Science Center (F/AKC), NMFS, 7600 Sand Point Way, NE BIN 15700, Seattle, WA 98115-0070 (Alaska); Janeen Quintal, Northeast Fisheries Science Center, 166 Water St., Woods Hole, MA 02543 (Northwest Atlantic); Steven Swartz, Southeast Fisheries Science Center, 75 Virginia Beach Dr., Miami, FL 33149 (Mid-Atlantic and Gulf of Mexico); and Tim Price, Southwest Regional Office (F/SWO3), NMFS, 501 West Ocean Boulevard, Long Beach, CA 90802-4213 (Pacific). Electronic copies of the reports can be found at the following internet address: http://www.nmfs.gov/prot_res/mammals/sa_rep/sar.html. Electronic copies of the Atlantic and Gulf of Mexico Marine Mammal Stock Assessments can also be found at the following internet address: http://www.nefsc.nmfs.gov/psb/assesspdfs.htm.

FOR FURTHER INFORMATION CONTACT: Emily Hanson, Office of Protected Resources, NMFS, at (301) 713-2322, ext. 101, Anita Lopez (206) 526-4045, regarding Alaska regional stock assessments; Janeen Quintal, (508) 495-2252 regarding Northwest Atlantic regional stock assessments; Steven Swartz, (305) 361-4487, regarding Mid-Atlantic and Gulf of Mexico regional stock assessments; or Tim Price, (562) 980-4020, regarding Pacific regional stock assessments.

SUPPLEMENTARY INFORMATION: Section 117 of the MMPA (16 U.S.C. 1361 et seq.) requires NMFS and the U.S. Fish and Wildlife Service (FWS) to prepare stock assessment reports (SARs) for each stock of marine mammals that occurs in waters under the jurisdiction of the United States. These reports contain information regarding the distribution and abundance of the stock, population growth rates and trends, estimates of annual human-caused mortality from all sources, descriptions of the fisheries with which the stock interacts, and the status of the stock.

The MMPA also requires NMFS and FWS to review these reports annually for strategic stocks of marine mammals and at least every three years for stocks determined to be non-strategic. NMFS, in conjunction with the Alaska, Atlantic, and Pacific Scientific Review Groups, reviewed the status of marine mammal stocks as required, and revised reports for which new information was available. Summary tables for all stocks of marine mammals in the three regions (Tables 1-3) indicate revisions to the reports. NMFS solicits public comments on these draft revised Alaska, Atlantic and Gulf of Mexico, and Pacific reports.

Alaska Stocks

NMFS, in conjunction with the Alaska Scientific Review Group, reviewed information available for all strategic stocks of Alaska marine mammals under its authority, as well as Pacific white-sided dolphins, harbor porpoise (3 stocks), Dall's porpoise, and gray whales for the 2000 Stock Assessment Reports. A total of 14 of the 32 Alaska stock assessment reports were revised for 2000. These reports are identified by a November 1, 1999, date-stamp at the beginning of each report.

Most proposed changes to the stock assessment reports incorporate new information into mortality estimates. New Potential Biological Removal level (PBR) estimates have been calculated for those stocks having new abundance estimates. The new information on abundance and mortality did not change the status (strategic or not) of any of the Alaska stocks relative to the last time the respective stock assessment report was revised.

As recommended by the Alaska Scientific Review Group (ASRG), NMFS proposes to change the recovery factor for the Cook Inlet stock of beluga whales. The proposed recovery factor for this stock would decrease from 0.5 to 0.3. The ASRG recommended a recovery factor of 0.1 be incorporated into the draft 2000 report. However, three significant pieces of information have become available. First, the Alaska Natives in the Cook Inlet area are cooperating to control the harvest, and no beluga were killed for subsistence in 1999. Second, the 1999 surveys indicate that the decline of the stock has abated. Third, the first year of observer coverage reported no beluga taken in Cook Inlet fisheries, suggesting that mortality incidental to commercial fishing does not appear to be a significant factor affecting the Cook Inlet beluga stock. Therefore, NMFS intends to use a recovery factor of 0.3 until additional information indicates that a revision is warranted.

The proposed minimum population estimate for the North Pacific stock of Pacific white-sided dolphins was reduced from 486,719 animals to 26,880 animals, which would reduce the Potential Biological Removal level (PBR) from 4,867 animals to 269 animals. The minimum population estimate of 486,719 animals was based on an abundance estimate that reflected the range-wide estimate of Pacific white-sided dolphins, rather than one that could be applied just to the North Pacific stock. The full estimate is not considered appropriate to apply to the North Pacific management stock, but the portion of the estimate derived from sightings north of 45°N in the Gulf of Alaska can be used as the population estimate for this stock, yielding the proposed minimum population estimate of 26,880 animals.

Atlantic and Gulf of Mexico Stocks

The draft 2000 Atlantic and Gulf of Mexico Stock Assessment Reports were prepared by staff of the Northeast Fisheries Science Center and Southeast Fisheries Science Center. The reports were presented at the November 1999 meeting of the Atlantic Scientific Review Group, and subsequent revisions were based on the group's advice. The 2000 Stock Assessment Reports contain updated assessments for Atlantic strategic stocks and for Atlantic and Gulf of Mexico stocks for which new information was available. These reports are identified by a December 1999 date-stamp at the beginning of each report.

A total of 28 of the 60 Atlantic and Gulf of Mexico SARs were revised for 2000. Most of the proposed changes incorporate new information into sections on population size and mortality estimates. The revised reports include 15 strategic and 13 non-strategic stocks. For the first time, individual species abundance estimates are available for the Western North Atlantic stocks of Atlantic spotted and Pantropical spotted dolphins.

Based on recent modeling that suggests that the population of the Western North Atlantic stock of Northern right whales is in decline, the maximum net productivity for this stock has been estimated as zero, and therefore PBR for this stock would be reduced to zero. This decrease would change the focus of the Atlantic Large Whale Take Reduction Team from concentrating on reducing to eliminating the incidental mortality and serious injury of right whales. Information on human interactions (fishery and ship strikes) between the right whale, humpback whale, fin whale, and minke whale stocks were reviewed and updated.

The stock definition for humpback whales is proposed to be changed from the North Atlantic Stock to the Gulf of Maine stock, based on genetic analysis and the fidelity of whales to this region for feeding. Although the stock structure was revised, the abundance estimate is based on the entire North Atlantic aggregation of humpback whales. Existing data does not allow NMFS to separately estimate abundance for the Gulf of Maine feeding stock.

The Western North Atlantic stock of long-finned pilot whales was changed to “strategic” based on the annual incidental mortality estimate.

Pacific Stocks

The draft 2000 Stock Assessment Reports present a complete set of revised stock assessments for Pacific marine mammal stocks under NMFS jurisdiction. New abundance estimates are available and have been included for ten Hawaiian stocks and 25 U.S. West Coast stocks. The assessments in this report include stocks studied by the Southwest Fisheries Science Center and the National Marine Mammal Laboratory. The Pacific and Alaska Scientific Review Groups reviewed and commented on earlier versions of these draft stock assessment reports.

Mortality estimates for the California drift gillnet fishery are based on data from 1997-98 because entanglement rates of marine mammals decreased after implementation of the Take Reduction Plan in 1997.

The California/Oregon/Washington stock of short-finned pilot whales is proposed to be classified as not strategic. Including driftnet mortality only for years after implementation of the Take Reduction Plan (1997-1998), the average annual human-caused mortality in 1997-1998 (3 animals) is estimated to be less than the PBR, and therefore they would not be classified as strategic.

The Central California stock of harbor porpoise is proposed to be classified as strategic because of increased mortality from the halibut set gillnet fishery. The average annual mortality for 1996-1998 is greater than the calculated PBR for Central California harbor porpoise. Based on the success of reducing harbor porpoise mortality in east coast fisheries, efforts are currently underway to encourage voluntary use of pingers in the central California set gillnet fishery. The observer program for this fishery is scheduled to be continued and will provide information on the success of any voluntary measures.

The Hawaii stock of false killer whales is proposed to be listed as strategic because the rate of serious injury to false killer whales within the U.S. Exclusive Economic Zone in the Hawaii longline fishery exceeds the PBR. However, the available abundance estimate, on which PBR is based, is based only on a portion of the species' range in Hawaiian waters. Additional studies of abundance, distribution, and fishery-related mortality would be required to re-evaluate this species' status in the future.

The stock assessment report for the California/Oregon/Washington stock of dwarf sperm whale (Kogia simus) has been discontinued. The lack of reliable sighting or stranding records off the U.S. west coast since the 1970s suggests the stock does not occur in waters under U.S. jurisdiction on a regular basis.

The stock of blue whale formerly known as the ‘California/Mexico stock’ has been renamed the “Eastern North Pacific stock” to reflect current knowledge of whale movements between the U.S. west coast and the eastern tropical Pacific (Mate et al. 1999, Stafford et al. 1999).

BILLING CODE 3510-22-P

Dated: May 15, 2000.
Art Jeffers,
Acting Director, Office of Protected Resources, National Marine Fisheries Service.

[FR Doc. 00-12579 Filed 5-17-00; 8:45 am]

BILLING CODE 3510-22-C